DEPARTMENT OF TRANSPORTATION

Federal Aviation Administration

Notice of Intent To Rule on Request To Release Airport Property at the Salt Lake City International Airport, Salt Lake City, UT

AGENCY: Federal Aviation Administration (FAA), DOT.

ACTION: Notice to request to release airport property.

SUMMARY: The FAA proposes to rule and invite public comment on the release of land at the Salt Lake City International Airport under the provisions of Section 125 of the Wendell H. Ford Aviation Investment Reform Act for the 21st Century (AIR 21).

DATES: Comments must be received on or before September 22, 2005.

ADDRESSES: Comments on this application may be mailed or delivered to the FAA at the following address: Mr. Craig Sparks, Manager, Federal Aviation Administration, Northwest Mountain Region, Airports Division, Denver Airports District Office, 26805 E. 68th Ave., Suite 224, Denver, Colorado 80249.

In addition, one copy of any comments submitted to the FAA must be mailed or delivered to Mr. Steve Domino, Director of Planning, Salt Lake City Department of Airports, AMF Box 22084, Salt Lake City, Utah 84122.

FOR FURTHER INFORMATION CONTACT: Ms. Cynthia Nelson, Project Manager, Federal Aviation Administration, Northwest Mountain Region, Airports Division, Denver Airports District Office, 26805 E. 68th Ave., Suite 224, Denver, Colorado 80249.

The request to release property may be reviewed in person by appointment at this same location.

SUPPLEMENTARY INFORMATION: The FAA invites public comment on the request to release property at the Salt Lake city International Airport under the provisions of the AIR 21.

On July 29, 2005, the FAA determined that the request to release property at the Salt Lake City International Airport submitted by the Salt Lake City Department of Airports met the procedural requirements of the Federal Aviation Regulations, part 155. The FAA may approve the request, in whole or in part, no later than October 31, 2005.

The following is a brief overview of the request:

The Salt Lake City International Airport requests the release of 620.51 acres of non-aeronautical airport property to the Salt Lake City Department of Airports, Utah. The purpose of this release is to allow the Salt Lake City Department of Airports to complete a land transfer with the subject land, which is no longer needed for airport purposes. The airport will acquire property that is compatible with the Salt Lake City International Airport's aviation needs.

Any person may inspect the request by appointment at the FAA office listed above under FOR FURTHER INFORMATION CONTACT.

In addition, any person may, inspect the application, notice and other documents germane to the application in person at Salt Lake City Department of Airports, Salt Lake City International Airport, 776 North Terminal Drive, Terminal One, Room 250, Salt Lake City, UT 84116.

Issued in Denver, Colorado on August 17, 2005.
Craig Sparks,
Manager, Denver Airports District Office.

[FR Doc. 05-16734 Filed 8-22-05; 8:45 am]

BILLING CODE 4910-13-M